DEPARTMENT OF ENERGY

Federal Energy Regulatory Commission

Combined Notice of Filings #1

Take notice that the Commission received the following electric corporate filings:

Docket Numbers: EC18-72-000.

Applicants: Walleye Energy, LLC, FirstEnergy Generation, LLC.

Description: Joint Application for Authorization For Disposition and Consolidation of Jurisdictional Facilities and Acquisition of an Existing Generation Facility, et al.

Filed Date: 3/20/18.

Accession Number: 20180320-5198.

Comments Due: 5 p.m. ET 4/10/18.

Take notice that the Commission received the following exempt wholesale generator filings:

Docket Numbers: EG18-57-000.

Applicants: Imperial Valley Solar 2, LLC.

Description: Notice of Certification of Imperial Valley Solar 2, LLC.

Filed Date: 3/19/18.

Accession Number: 20180319-5206.

Comments Due: 5 p.m. ET 4/9/18.

Docket Numbers: EG18-58-000.

Applicants: Delta Solar Power I, LLC.

Description: Notice of Self-Certification of Exempt Wholesale Generator Status of Delta Solar Power I, LLC.

Filed Date: 3/20/18.

Accession Number: 20180320-5151.

Comments Due: 5 p.m. ET 4/10/18.

Docket Numbers: EG18-59-000.

Applicants: Delta Solar Power II, LLC.

Description: Notice of Self-Certification of Exempt Wholesale Generator Status of Delta Solar Power II, LLC.

Filed Date: 3/20/18.

Accession Number: 20180320-5154.

Comments Due: 5 p.m. ET 4/10/18.

Take notice that the Commission received the following electric rate filings:

Docket Numbers: ER10-1325-008; ER17-1968-000; ER17-1967-000; ER17-1970-000; ER17-1971-000; ER17-1964-000; ER17-1972-000; ER17-1973-000.

Applicants: CinCap V LLC, Duke Energy Beckjord, LLC, Duke Energy Carolinas, LLC, Duke Energy Commercial Enterprises, Inc., Duke Energy Florida, LLC, Duke Energy Progress, LLC, Duke Energy Renewable Services, LLC, Duke Energy SAM, LLC.

Description: Supplement to June 30, 2017 Updated Market Power Analysis for the Southeast Region of CinCap V, LLC, et al.

Filed Date: 3/20/18.

Accession Number: 20180320-5097.

Comments Due: 5 p.m. ET 4/10/18.

Docket Numbers: ER13-102-012.

Applicants: New York Independent System Operator, Inc.

Description: Compliance filing: Compliance with 2/15/18 Order directives re: Order No. 1000 to be effective 4/1/2016.

Filed Date: 3/19/18.

Accession Number: 20180319-5184.

Comments Due: 5 p.m. ET 4/9/18.

Docket Numbers: ER16-2095-003.

Applicants: Midwest Generation, LLC.

Description: Compliance filing: Reactive Service Tariff Compliance Filing to be effective 8/1/2016.

Filed Date: 3/20/18.

Accession Number: 20180320-5211.

Comments Due: 5 p.m. ET 4/10/18.

Docket Numbers: ER17-179-002.

Applicants: American Transmission Systems, Incorporated, PPL Electric Utilities Corporation, PJM Interconnection, L.L.C.

Description: Compliance filing: PJM Transmission Owners submit Compliance Filing re: 2/15/18 Order in ER17-179 to be effective 12/31/9998.

Filed Date: 3/19/18.

Accession Number: 20180319-5186.

Comments Due: 5 p.m. ET 4/9/18.

Docket Numbers: ER17-179-003.

Applicants: PJM Interconnection, L.L.C.

Description: Compliance filing: Compliance per February 15, 2018 order in Docket No. ER17-179 to be effective 12/31/9998.

Filed Date: 3/19/18.

Accession Number: 20180319-5189.

Comments Due: 5 p.m. ET 4/9/18.

Docket Numbers: ER18-661-000.

Applicants: Midcontinent Independent System Operator, Inc., Ameren Illinois Company.

Description: Report Filing: 2018-03-20_Refund Report for Ameren-Farmington 1st Rev WDS to be effective N/A.

Filed Date: 3/20/18.

Accession Number: 20180320-5025.

Comments Due: 5 p.m. ET 4/10/18.

Docket Numbers: ER18-1138-000.

Applicants: PPL Electric Utilities Corporation.

Description: Request for Waiver, et al. of PPL Electric Utilities Corporation.

Filed Date: 3/16/18.

Accession Number: 20180316-5220.

Comments Due: 5 p.m. ET 3/30/18.

Docket Numbers: ER18-1142-000.

Applicants: Imperial Valley Solar 2, LLC.

Description: Baseline eTariff Filing: Baseline new to be effective 12/13/9998.

Filed Date: 3/19/18.

Accession Number: 20180319-5174.

Comments Due: 5 p.m. ET 4/9/18.

Docket Numbers: ER18-1143-000.

Applicants: Duke Energy Indiana, LLC.

Description: § 205(d) Rate Filing: 2018 Annual Reconciliation Filing RS No. 253 to be effective 7/1/2017.

Filed Date: 3/20/18.

Accession Number: 20180320-5015.

Comments Due: 5 p.m. ET 4/10/18.

Docket Numbers: ER18-1148-000.

Applicants: PJM Interconnection, L.L.C.

Description: § 205(d) Rate Filing: Clean-up of Operating Agreement, Schedule 6, sec 1.3 and 1.5 to be effective 7/18/2016.

Filed Date: 3/20/18.

Accession Number: 20180320-5188.

Comments Due: 5 p.m. ET 4/10/18.

Docket Numbers: ER18-1149-000.

Applicants: Walleye Energy, LLC.

Description: Baseline eTariff Filing: Market Based Rate Tariff to be effective 5/21/2018.

Filed Date: 3/20/18.

Accession Number: 20180320-5213.

Comments Due: 5 p.m. ET 4/10/18.

Take notice that the Commission received the following electric reliability filings:

Docket Numbers: RD18-4-000.

Applicants: North American Electric Reliability Corporation.

Description: Petition of the North American Electric Reliability Corporation for Approval of Proposed Reliability Standard PRC-025-2.

Filed Date: 3/16/18.

Accession Number: 20180316-5245.

Comments Due: 5 p.m. ET 4/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 20, 2018.
Nathaniel J. Davis, Sr.,
Deputy Secretary.

[FR Doc. 2018-06038 Filed 3-23-18; 8:45 am]

BILLING CODE 6717-01-P